DEPARTMENT OF COMMERCE

International Trade Administration

[A-570-832]

Continuation of Antidumping Duty Order: Pure Magnesium From the People's Republic of China

AGENCY: Import Administration, International Trade Administration, Department of Commerce.

SUMMARY: As a result of the determinations by the Department of Commerce (the “Department”) and the International Trade Commission (the “ITC”) that revocation of the antidumping duty (“AD”) order on pure magnesium from the People's Republic of China (“PRC”) would be likely to lead to continuation or recurrence of dumping and of material injury to an industry in the United States, the Department is publishing this notice of continuation of the AD order.

DATES: Effective Date: November 22, 2011.

FOR FURTHER INFORMATION CONTACT: Brooke Kennedy or Eugene Degnan, AD/CVD Operations, Import Administration, International Trade Administration, U.S. Department of Commerce, 14th Street and Constitution Avenue NW., Washington, DC 20230; telephone: (202) 482-3818 or (202) 482-0414.

SUPPLEMENTARY INFORMATION: On June 1, 2011, the Department initiated the third sunset review of the AD order on pure magnesium from the PRC pursuant to section 751(c) of the Tariff Act of 1930, as amended (“Act”). See Initiation of Five-Year “Sunset” Review, 76 FR 31588 (June 1, 2011).

As a result of its review, the Department determined that revocation of the AD order on pure magnesium from the PRC would be likely to lead to a continuation or recurrence of dumping, and, therefore, notified the ITC of the magnitude of the margins likely to prevail should the order be revoked. See Pure Magnesium From the People's Republic of China: Final Results of Expedited Third Sunset Review of the Antidumping Duty Order, 76 FR 62040 (October 6, 2011).

On October 19, 2011, the ITC determined, pursuant to section 751(c) of the Act, that revocation of the existing AD order on pure magnesium from the PRC would be likely to lead to a continuation or recurrence of material injury to an industry in the United States within a reasonably foreseeable time. See USITC Publication 4274 (October 2011), Pure Magnesium from China: Investigation No. 731-TA-696 (Third Review), and Pure Magnesium From China, 76 FR 69284 (November 8, 2011).

Scope of the Order

Merchandise covered by the order is pure magnesium regardless of chemistry, form or size, unless expressly excluded from the scope of the order. Pure magnesium is a metal or alloy containing by weight primarily the element magnesium and produced by decomposing raw materials into magnesium metal. Pure primary magnesium is used primarily as a chemical in the aluminum alloying, desulfurization, and chemical reduction industries. In addition, pure magnesium is used as an input in producing magnesium alloy. Pure magnesium encompasses products (including, but not limited to, butt ends, stubs, crowns and crystals) with the following primary magnesium contents:

(1) Products that contain at least 99.95% primary magnesium, by weight (generally referred to as “ultra pure” magnesium);

(2) Products that contain less than 99.95% but not less than 99.8% primary magnesium, by weight (generally referred to as “pure” magnesium); and

(3) Products that contain 50% or greater, but less than 99.8% primary magnesium, by weight, and that do not conform to ASTM specifications for alloy magnesium (generally referred to as “off-specification pure” magnesium).

“Off-specification pure” magnesium is pure primary magnesium containing magnesium scrap, secondary magnesium, oxidized magnesium or impurities (whether or not intentionally added) that cause the primary magnesium content to fall below 99.8% by weight. It generally does not contain, individually or in combination, 1.5% or more, by weight, of the following alloying elements: aluminum, manganese, zinc, silicon, thorium, zirconium and rare earths.

Excluded from the scope of the order are alloy primary magnesium (that meets specifications for alloy magnesium), primary magnesium anodes, granular primary magnesium (including turnings, chips and powder) having a maximum physical dimension (i.e., length or diameter) of one inch or less, secondary magnesium (which has pure primary magnesium content of less than 50% by weight), and remelted magnesium whose pure primary magnesium content is less than 50% by weight.

Pure magnesium products covered by the order are currently classifiable under Harmonized Tariff Schedule of the United States (“HTSUS”) subheadings 8104.11.00, 8104.19.00, 8104.20.00, 8104.30.00, 8104.90.00, 3824.90.11, 3824.90.19 and 9817.00.90. Although the HTSUS subheadings are provided for convenience and customs purposes, our written description of the scope is dispositive.¹

¹ The Department has made two scope rulings regarding the subject merchandise. On November 9, 2006, the Department issued a scope ruling, finding that alloy magnesium extrusion billets produced in Canada by Timminco, Ltd. from pure magnesium of Chinese origin are not within the scope of order. See Memorandum regarding Final Ruling in the Scope Inquiry on Russian and Chinese Magnesium Processed in Canada, dated November 9, 2006. On December 4, 2006, the Department issued a scope ruling, finding that pure magnesium produced in France using pure magnesium from the PRC is within the scope of the order. See Memorandum regarding Final Ruling in the Scope Inquiry on Chinese Magnesium Processed in France, dated December 4, 2006.

Continuation of the Order

As a result of these determinations by the Department and the ITC that revocation of the AD order on pure magnesium would be likely to lead to a continuation or recurrence of dumping, and material injury to an industry in the United States, pursuant to section 751(d)(2) of the Act, the Department hereby orders the continuation of the AD order on pure magnesium from the PRC. U.S. Customs and Border Protection will continue to collect cash deposits at the rates in effect at the time of entry for all imports of subject merchandise. The effective date of the continuation of the order will be the date of publication in the Federal Register of this notice of continuation. Pursuant to section 751(c)(2) of the Act, the Department intends to initiate the next five-year review of the order not later than 30 days prior to the fifth anniversary of the effective date of continuation.

This five-year (sunset) review and this notice are in accordance with section 751(c) of the Act and published pursuant to section 777(i)(1) of the Act.

Dated: November 14, 2011.
Paul Piquado,
Assistant Secretary for Import Administration.

[FR Doc. 2011-30017 Filed 11-21-11; 8:45 am]

BILLING CODE 3510-DS-P